DEPARTMENT OF COMMERCE

International Trade Administration

[A-489-807]

Certain Steel Concrete Reinforcing Bars from Turkey; Preliminary Results and Partial Rescission of Antidumping Duty Administrative Review

AGENCY: Import Administration, International Trade Administration, Department of Commerce.

SUMMARY: In response to a request by the petitioners and four producers/exporters of the subject merchandise, the Department of Commerce (the Department) is conducting an administrative review of the antidumping duty order on certain steel concrete reinforcing bars (rebar) from Turkey. This review covers 15 producers/exporters of the subject merchandise to the United States. This is the seventh period of review (POR), covering April 1, 2004, through March 31, 2005.

We have preliminarily determined that 11 of the producers/exporters have made sales below normal value (NV). If these preliminary results are adopted in the final results of this review, we will instruct U.S. Customs and Border Protection (CBP) to assess antidumping duties on all appropriate entries.

On January 23, 2006, we rescinded the review with respect to ICDAS Celik Enerji Tersane ve Ulasim Sanayi, A.S. (ICDAS) based on the Department's determination in the prior administrative review to revoke ICDAS from the order. In addition, we have preliminarily determined to rescind the review with respect to 18 companies because either: (1) These companies had no shipments of subject merchandise during the POR; or (2) the questionnaires sent to these companies were returned to the Department because of undeliverable addresses.

We invite interested parties to comment on these preliminary results. Parties who wish to submit comments in this proceeding are requested to submit with each argument: (1) a statement of the issue; and (2) a brief summary of the argument.

EFFECTIVE DATE: May 5, 2006.

FOR FURTHER INFORMATION CONTACT: Irina Itkin or Alice Gibbons, AD/CVD Operations, Office 2, Import Administration, International Trade Administration, U.S. Department of Commerce, 14th Street and Constitution Avenue, NW., Washington, DC, 20230; telephone (202) 482-0656 or (202) 482-0498, respectively.

SUPPLEMENTARY INFORMATION:

Background

On April 1, 2005, the Department published in the Federal Register a notice of “Opportunity To Request Administrative Review” of the antidumping duty order on rebar from Turkey (70 FR 16799).

In accordance with 19 CFR 351.213(b)(2), in April 2005, the Department received requests to conduct an administrative review of the antidumping duty order on rebar from Turkey from the following producers/exporters of rebar: Colakoglu Metalurji A.S. and Colakoglu Dis Ticaret A.S. (collectively “Colakoglu”); Diler Demir Celik Endustrisi ve Ticaret A.S., Yazici Demir Celik Sanayi ve Ticaret A.S. (now doing business as Yazici Demir Celik Sanayi ve Turizm Ticaret A.S.) and Diler Dis Ticaret A.S. (collectively, “Diler”); Habas Sinai ve Tibbi Gazlar Istihsal Endustrisi A.S. (Habas); and ICDAS. In accordance with 19 CFR 351.213(b)(1), on April 29, 2005, the petitioners, Nucor Corporation, Gerdau AmeriSteel Corporation and Commercial Metals Company, also requested an administrative review for each of the above companies, as well as additional producers/exporters of rebar.¹

¹ Akmisa Foreign Trade Ltd. Co. (Akmisa); Buyurgan Group Steel Division and Metalenerji A.S. (Buyurgan); Cag Celik Demir ve Celik Endustrisi A.S. (Cag Celik); Cebitas Demir Celik Endustrisi A.S. (Cebitas); Cemtas Celik Makina Sanayi ve Ticaret A.S. (Cemtas); Cukurova Celik Endustrisi A.S. (Cukurova); Demirsan Haddecilik Sanayi ve Ticaret A.S. (Demirsan); DHT Metal (DHT); Efesan Demir Sanayi ve Ticaret A.S. and Efe Demir Celik (Efesan); Ege Celik Endustrisi Sanayi ve Ticaret A.S. (Ege Celik); Ege Metal Demir Celik Sanayi ve Ticaret A.S. (Ege Metal); Ekinciler Demir ve Celik Sanayi A.S. and Ekinciler Dis Ticaret A.S. (Ekinciler); Ilhanlar Rolling and Textile Industries, Ltd., Sti. and Ilhanlar Group (Ilhanlar); Intermet A.S. (Intermet); Iskenderun Iron & Steel Works Co. (Iskenderun); Izmir Demir Celik Sanayi A.S. (Izmir); Kaptan Demir Celik Endustrisi ve Ticaret A.S. (Kaptan); Kardemir - Karabuk Demir Celik Sanayi ve Ticaret A.S. (Kardemir); Koc Dis Ticaret A.S. (Koc); Kroman Celik Sanayi A.S. (Kroman); Kurum Demir Sanayi ve Ticaret Metalenerji A.S. (Kurum); Metas Izmir Metalurji Fabrikasi Turk A.S. (Metas Izmir); Nurmet Celik Sanayi ve Ticaret A.S. (Nurmet); Nursan Celik Sanayi ve Haddecilik A.S. (Nursan); Sivas Demir Celik Isletmeleri A.S. (Sivas); Sozer Steel Works (Sozer); ST Steel Industry and Foreign Trade Ltd. Sti. (ST Steel); Tosyali Demir Celik Sanayi A.S. (Tosyali); Ucel Haddecilik Sanayi ve Ticaret A.S. (Ucel); Yesilyurt Demir Celik/ Yesilyurt Demir Cekme San ve Tic Ltd. Sirketi (Yesilyurt); and the Yolbulan Group (Yolbulanlar Nak. ve Ticaret A.S., Yolbulan Metal Sanayi ve Ticaret A.S. and Yolbulan Dis Ticaret Ltd. Sti.)

In May 2005, the Department initiated an administrative review for each of these companies. See Initiation of Antidumping and Countervailing Duty Administrative Reviews and Request for Revocation in Part, 70 FR 30694 (May 27, 2005). From May 2005 through August 2005, we issued questionnaires to them.

In June and August 2005, respectively, Tosyali and Cemtas informed the Department that they had no shipments or entries of subject merchandise during the POR. Because we confirmed this with CBP, we are preliminarily rescinding the review with respect to these companies. For further discussion, see the “Partial Rescission of Review” section of this notice.

In August 2005, we received responses to sections A through C of the questionnaire (i.e., the sections regarding sales to the home market and the United States) from Colakoglu, Diler, Ekinciler, and Habas, as well as section D of the questionnaire (i.e., the section regarding cost of production (COP) and constructed value (CV)) from Diler, Ekinciler, and Habas.

In September 2005, the questionnaires sent to Akmisa, Cukurova, Metas Izmir, Sivas, and ST Steel were returned to the Department because of undeliverable addresses. Subsequently, we contacted the petitioners in this review and requested that they provide alternate addresses for these companies; however, they were unable to do so. Consequently, we are also preliminarily rescinding our review with respect to these companies. For further discussion, see the “Partial Rescission of Review” section of this notice.

Also in September 2005, the petitioners alleged that Colakoglu was selling at prices below its COP in the home market. Based on an analysis of this allegation, the Department initiated an investigation to determine whether Colakoglu made home market sales at prices below its COP within the meaning of section 773(b) of the Tariff Act of 1930, as amended (the Act. Consequently, we required Colakoglu to submit a response to section D of the questionnaire. We received Colakoglu's response in October 2005.

In September and October 2005, the following companies informed the Department that they had no shipments or entries of subject merchandise during the POR: Buyurgan, Cag Celik, Cebitas, Demirsan, DHT, Efesan, Ege Celik, Izmir, Kaptan, Kardemir, Kurum, and Yesilyurt. Because we confirmed this with CBP, we are preliminarily rescinding the review with respect to these companies. For further discussion, see the “Partial Rescission of Review” section of this notice. We received no response to the questionnaire from the remaining companies (Ege Metal, Ilhanlar, Intermet, Iskenderun, Koc, Kroman, Nurmet, Nursan, Sozer, Ucel, and the Yolbulan group). Therefore, we have preliminarily determined to base the margin for each of them on adverse facts available (AFA). For further discussion, see the “Application of Facts Available” section of this notice.

In October 2005, we issued a supplemental questionnaire to Ekinciler. We received a response to this questionnaire in November 2005.

In November 2005, the Department postponed the preliminary results of this review until no later than May 1, 2006. See Certain Steel Concrete Reinforcing Bars from Turkey; Notice of Extension of Time Limits for Preliminary Results in Antidumping Duty Administrative Review, 70 FR 70785 (Nov. 23, 2005).

In November and December 2005, we issued supplemental questionnaires to Colakoglu, Diler, Ekinciler, and Habas. We received responses to these questionnaires in December 2005 and January 2006.

In January 2006, we rescinded the review with respect to ICDAS based on the Department's determination in the prior administrative review to revoke ICDAS from the order. See Certain Steel Concrete Reinforcing Bars from Turkey; Notice of Partial Rescission of Antidumping Duty Administrative Review, 71 FR 3468 (Jan. 23, 2006). Also, in January 2006, we issued additional supplemental questionnaires to Colakoglu, Diler, and Habas. We received responses to these questionnaires in February 2006.

In February and March 2006, we issued additional supplemental questionnaires to Colakoglu, Diler, Ekinciler, and Habas. We received responses to these questionnaires in February and March 2006. Also, in February and March 2006, we conducted verifications in Turkey of the information submitted by Colakoglu and Diler.

In March 2006, Mitsui Steel Inc. (Mitsui), an interested party to this proceeding, submitted evidence demonstrating that it was the importer of record for certain of Diler's U.S. sales, and it requested that the results of this review be applied to the associated entries. Based on the information provided by Mitsui, we have revised the entered values and importer of record for the transactions in question. See the “Assessment” section below for further discussion.

In April 2006, we issued further supplemental questionnaires to Ekinciler and Habas. We received responses to these questionnaires in April 2006.

Finally, in April 2006, it came to our attention that one of Diler's affiliated rebar producers, Yazici Demir Celik Sanayi ve Ticaret A.S. (Yazici), changed its corporate structure prior to the initiation of this review and is now doing business under the name Yazici Demir Celik Sanayi ve Turizm Ticaret A.S. (Yazici Turizm). As a result, we solicited information on this change from Diler. Diler supplied this information in April 2006. After analyzing this information, we preliminarily find that Yazici Turizm is the successor-in-interest to Yazici. For further discussion, see the “Successor-in-Interest” section of this notice, below.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this proceeding is dispositive.

Successor-in-Interest

As noted above, in April 2006, Diler informed the Department that its affiliated producer, Yazici, merged with another group company and is now doing business under the name Yazici Turizm. As a result, on April 13, 2006, we requested that Diler address the following four factors with respect to this change in corporate structure in order to determine whether Yazici Turizm is the successor-in-interest to Yazici: management, production facilities for the subject merchandise, supplier relationships, and customer base.

On April 18, 2006, Diler responded to the Department's request. In this submission, Diler stated that, in 2002, Yazici changed its name to Yazici Turizm and merged with another company in the Diler Group, which was involved in a hotel construction project in Turkey. According to Diler, neither the name change nor the merger has had any effect on the core activity of the company, which is to produce billets and rebar. Specifically, Diler stated that there were no changes to Yazici's management, production facilities for the subject merchandise, supplier relationships, or customer base as a result of the change in corporate structure. Therefore, Diler requested that the Department inform CBP that the company in existence and subject to the 2004-2005 administrative review was Yazici Turizm.

Based on our analysis of Diler's April 18, 2006, submission, we find that Yazici Turizm's organizational structure, management, production facilities, supplier relationships, and customers have remained essentially unchanged. Further, we find that Yazici Turizm operates as the same business entity as Yazici with respect to the production and sale of rebar. Thus, we find that Yazici Turizm is the successor-in-interest to Yazici, and, as a consequence, its exports of rebar are subject to this proceeding. For further discussion, see the May 1, 2006, memorandum to Stephen J. Claeys, Deputy Assistant Secretary, from Irene Darzenta Tzafolias, Acting Office Director, entitled, “Successor-In-Interest Determination for Diler Demir Celik Endustrisi ve Ticaret A.S., Yazici Demir Celik Sanayi ve Ticaret A.S., and Diler Dis Ticaret A.S. (collectively “Diler”) in the 2004-2005 Antidumping Duty Administrative Review of Certain Steel Concrete Reinforcing Bars (Rebar) from Turkey.”

Period of Review

The POR is April 1, 2004, through March 31, 2005.

Partial Rescission of Review

As noted above, Buyurgan, Cag Celik, Cebitas, Cemtas, Demirsan, DHT, Efesan, Ege Celik, Izmir, Kaptan, Kardemir, Tosyali, and Yesilyurt informed the Department that they had no shipments of subject merchandise to the United States during the POR. We have confirmed this with CBP. See the Memorandum to the File from Brianne Riker entitled, “Placing Customs Entry Documents on the Record of the 2004-2005 Antidumping Duty Administrative Review of Certain Steel Concrete Reinforcing Bars from Turkey,” dated May 2, 2005. Therefore, in accordance with 19 CFR 351.213(d)(3), and consistent with the Department's practice, we are preliminarily rescinding our review with respect to these companies. See, e.g., Certain Steel Concrete Reinforcing Bars From Turkey; Final Results, Rescission of Antidumping Duty Administrative Review in Part, and Determination To Revoke in Part, 70 FR 67665, 67666 (Nov. 8, 2005); Certain Steel Concrete Reinforcing Bars From Turkey; Final Results, Rescission of Antidumping Duty Administrative Review in Part, and Determination Not To Revoke in Part, 69 FR 64731, 64732 (Nov. 8, 2004).

In addition, the questionnaires sent to Akmisa, Cukurova, Metas Izmir, Sivas, and ST Steel were returned to the Department because of undeliverable addresses. Although we requested that the petitioners provide alternate addresses for these companies, they were unable to do so. For further discussion, see the Memorandum to the File from Brianne Riker entitled, “Placing Information on the Record in the 2004-2005 Antidumping Duty Administrative Review of Certain Concrete Reinforcing Bars (Rebar) from Turkey,” dated September 20, 2005. Because we were unable to locate these companies, we are also preliminarily rescinding our review with respect to them.

Application of Facts Available

Section 776(a) of the Act, provides that the Department will apply “facts otherwise available” if, inter alia, necessary information is not available on the record or an interested party: (1) withholds information that has been requested by the Department; (2) fails to provide such information within the deadlines established, or in the form or manner requested by the Department, subject to subsections (c)(1) and (e) of section 782 of the Act; (3) significantly impedes a proceeding; or (4) provides such information, but the information cannot be verified.

As discussed in the “Background” section, above, on August 26, 2005, the Department requested that Ege Metal, Ilhanlar, Intermet, Iskenderun, Koc, Kroman, Nurmet, Nursan, Sozer, Ucel, and the Yolbulan Group respond to the Department's antidumping duty questionnaire. The deadline to file a response was October 3, 2005. The Department did not receive a response from these companies. On October 31, 2005, the Department placed documentation on the record confirming delivery of the questionnaires to each company. See the Memorandum to the File from Brianne Riker entitled, “Placing Information on the Record of the 2004-2005 Antidumping Duty Administrative Review of Certain Steel Concrete Reinforcing Bars (Rebar) from Turkey,” dated October 31, 2005. Thus, pursuant to sections 776(a)(2)(A) and (C) of the Act, because these companies did not respond to the Department's questionnaire, the Department preliminarily finds that the use of total facts available is appropriate.

According to section 776(b) of the Act, if the Department finds that an interested party fails to cooperate by not acting to the best of its ability to comply with requests for information, the Department may use an inference that is adverse to the interests of that party in selecting from the facts otherwise available. See, e.g., Notice of Final Results of Antidumping Duty Administrative Review: Stainless Steel Bar from India, 70 FR 54023, 54025-26 (Sept. 13, 2005); see also Notice of Final Determination of Sales at Less Than Fair Value and Final Negative Critical Circumstances: Carbon and Certain Alloy Steel Wire Rod from Brazil, 67 FR 55792, 55794-96 (Aug. 30, 2002). Adverse inferences are appropriate “to ensure that the party does not obtain a more favorable result by failing to cooperate than if it had cooperated fully.” See Statement of Administrative Action accompanying the Uruguay Round Agreements Act, H.R. Rep. No. 103-316, Vol. 1, at 870 (1994) (SAA). Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382 (Fed. Cir. 2003) (Nippon). We preliminarily find that Ege Metal, Ilhanlar, Intermet, Iskenderun, Koc, Kroman, Nurmet, Nursan, Sozer, Ucel, and the Yolbulan Group did not act to the best of their abilities in this proceeding, within the meaning of section 776(b) of the Act, because they failed to respond to the Department's questionnaire. Therefore, an adverse inference is warranted in selecting from the facts otherwise available. See Nippon, 337 F.3d at 1382-83.

Section 776(b) of the Act provides that the Department may use as AFA, information derived from: (1) The petition; (2) the final determination in the investigation; (3) any previous review; or (4) any other information placed on the record.

The Department's practice, when selecting an AFA rate from among the possible sources of information, has been to ensure that the margin is sufficiently adverse “as to effectuate the statutory purposes of the adverse facts available rule to induce respondents to provide the Department with complete and accurate information in a timely manner.” See, e.g., Notice of Final Determination of Sales at Less Than Fair Value: Static Random Access Memory Semiconductors from Taiwan, 63 FR 8909, 8932 (Feb. 23, 1998). Additionally, the Department's practice has been to assign the highest margin determined for any party in the less-than-fair-value (LTFV) investigation or in any administrative review of a specific order to respondents who have failed to cooperate with the Department. See, e.g., Heavy Forged Hand Tools, Finished or Unfinished, With or Without Handles, from the People's Republic of China: Final Results of Antidumping Duty Administrative Reviews and Final Rescission and Partial Rescission of Antidumping Duty Administrative Reviews, 70 FR 54897, 54898 (Sept. 19, 2005).

In order to ensure that the margin is sufficiently adverse so as to induce cooperation, we have preliminarily assigned a rate of 41.80 percent, which was the rate alleged in the petition, as adjusted at the initiation of the LTFV investigation. This rate was assigned in a previous segment of this proceeding and is the highest rate determined for any respondent in any segment of this proceeding. See Notice of Amendment of Final Determination of Sales at Less Than Fair Value: Certain Steel Concrete Reinforcing Bars from Turkey, 62 FR 16543 (Apr. 7, 1997) (Amended LTFV Final Determination). The Department finds that this rate is sufficiently high as to effectuate the purpose of the facts available rule (i.e., we find that this rate is high enough to encourage participation in future segments of this proceeding in accordance with section 776(b) of the Act).

Information from prior segments of the proceeding constitutes secondary information and section 776(c) of the Act provides that the Department shall, to the extent practicable, corroborate that secondary information from independent sources reasonably at its disposal. The Department's regulations provide that “corroborate” means that the Department will satisfy itself that the secondary information to be used has probative value. See 19 CFR 351.308(d); see also SAA at 870. To the extent practicable, the Department will examine the reliability and relevance of the information to be used. Unlike other types of information, such as input costs or selling expenses, there are no independent sources from which the Department can derive dumping margins. The only source for dumping margins is administrative determinations. In the LTFV investigation in this proceeding, the Department found that the petition rate was reliable. See Notice of Preliminary Determination of Sales at Less Than Fair Value: Certain Steel Concrete Reinforcing Bars from Turkey, 61 FR 53203, 53204 (Oct. 10, 1996), unchanged in the Amended LTFV Final Determination.

With respect to the relevance aspect of corroboration, however, the Department will consider information reasonably at its disposal as to whether there are circumstances that would render a margin inappropriate. Where circumstances indicate that the selected margin is not appropriate as AFA, the Department may disregard the margin and determine an appropriate margin. See, e.g., Fresh Cut Flowers from Mexico; Final Results of Antidumping Duty Administrative Review, 61 FR 6812, 6814 (Feb. 22, 1996) (where the Department disregarded the highest calculated margin as AFA because the margin was based on a company's uncharacteristic business expense resulting in an unusually high margin). Therefore, we examined whether any information on the record would discredit the selected rate as reasonable facts available. To do so, we conducted research in an attempt to find data that might help inform the Department's corroboration analysis. We were unable to find any information that would discredit the selected AFA rate. See the Memorandum to the File from Brianne Riker entitled, “Research for Corroboration for the Preliminary Results in the 2004-2005 Antidumping Duty Administrative Review of Certain Steel Concrete Reinforcing Bars (Rebar) from Turkey,” dated May 1, 2006. Since we did not find evidence indicating that the margin used as facts available in this proceeding is not appropriate, we have determined that the 41.80 percent margin calculated in the LTFV investigation is appropriate as AFA and are assigning this rate to Ege Metal, Ilhanlar, Intermet, Iskenderun, Koc, Kroman, Nurmet, Nursan, Sozer, Ucel, and the Yolbulan Group. This is consistent with section 776(b) of the Act which states that adverse inferences may include reliance on information derived from the petition.

Comparisons to Normal Value

To determine whether sales of rebar from Turkey were made in the United States at less than NV, we compared the export price (EP) to the NV. When making comparisons in accordance with section 771(16) of the Act, we considered all products sold in the home market as described in the “Scope of the Order” section of this notice, above, that were in the ordinary course of trade for purposes of determining appropriate product comparisons to U.S. sales. Where there were no sales of identical merchandise in the home market made in the ordinary course of trade, we compared U.S. sales to sales of the most similar foreign like product made in the ordinary course of trade based on the characteristics listed in sections B and C of our antidumping questionnaire.

Product Comparisons

In accordance with section 771(16) of the Act, we first attempted to compare products produced by the same company and sold in the U.S. and home markets that were identical with respect to the following characteristics: form, grade, size, and industry standard specification. Where there were no home market sales of foreign like product that were identical in these respects to the merchandise sold in the United States, we compared U.S. products with the most similar merchandise sold in the home market based on the characteristics listed above, in that order of priority.

Export Price

For all U.S. sales made by Colakoglu, Diler, Ekinciler, and Habas, we used EP methodology, in accordance with section 772(a) of the Act, because the subject merchandise was sold directly to the first unaffiliated purchaser in the United States prior to importation and constructed export price methodology was not otherwise warranted based on the facts of record.

Regarding the date of sale, three of the respondents (i.e., Colakoglu, Diler, and Habas) argued that we should use one of the following dates as the date of sale for their U.S. sales in this review: (1) the date of the original contract; (2) the date of the contract amendment; (3) the date of the amended letter of credit; (4) the date of the purchase order; or (5) the date of the sales confirmation. After analyzing the information on the record of this review with respect to this issue, we find that, not only were the initial agreements between these respondents and their U.S. customers often subject to change, they in fact did change. Thus we have used invoice date as the U.S. date of sale for Colakoglu, Diler, and Habas in accordance with 19 CFR 401(i). Regarding Ekinciler, we used the contract date as the date of sale because the evidence on the record shows that there were no changes in the material terms of sale between the contract and the invoice. For further discussion, see the Memorandum to the File from Brianne Riker entitled, “Date of Sale Information for the 2004-2005 Antidumping Duty Administrative Review on Certain Steel Concrete Reinforcing Bars from Turkey,” dated May 1, 2006.

A. Colakoglu

We based EP on packed prices to the first unaffiliated purchaser in the United States. We made deductions for loading expenses, overage charges, inspection fees, demurrage expenses (offset by freight commission revenue, dispatch revenue, and other freight-related revenue), ocean freight expenses, marine insurance expenses, U.S. customs duties, and U.S. brokerage and handling expenses, where appropriate, in accordance with section 772(c)(2)(A) of the Act.

B. Diler

We based EP on packed prices to the first unaffiliated purchaser in the United States. We made deductions for foreign inland freight expenses, loading expenses (including charges for loading supervision), ocean freight expenses (offset by dispatch revenue), and brokerage and handling expenses, where appropriate, in accordance with section 772(c)(2)(A) of the Act.

Regarding foreign inland freight and international freight services, Diler reported that certain of these services were provided by an affiliated party. At verification, we tested the movement expenses charged by affiliated parties to determine whether the prices charged were at “arm's length.” Where we found that the prices were not at arm's length, we adjusted them to be equivalent to the market price. For further discussion, see the Memorandum to the File from Alice Gibbons entitled, “Calculations Performed for Diler Demir Celik Endustrisi ve Ticaret A.S., Yazici Demir Celik Sanayi ve Ticaret A.S. and Diler Dis Ticaret A.S. (collectively “Diler”) for the Preliminary Results in the 2004-2005 Antidumping Duty Administrative Review on Certain Steel Concrete Reinforcing Bars from Turkey,” dated May 1, 2006.

C. Ekinciler

We based EP on packed prices to the first unaffiliated purchaser in the United States. We made deductions for foreign brokerage and handling, crane charges, terminal charges, port charges, overage charges, inspection fees, demurrage expenses (offset by dispatch revenue) and ocean freight expenses, in accordance with section 772(c)(2)(A) of the Act.

D. Habas

We based EP on packed prices to the first unaffiliated purchaser in the United States. We made deductions for foreign inland freight expenses, loading charges, forklift charges, surveying expenses, customs overtime fees, demurrage expenses, and ocean freight expenses, where appropriate, in accordance with section 772(c)(2)(A) of the Act.

Normal Value

A. Home Market Viability

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(C) of the Act. Based on this comparison, we determined that each respondent had a viable home market during the POR. Consequently, we based NV on home market sales.

For each respondent, in accordance with our practice, we excluded home market sales of non-prime merchandise made during the POR from our preliminary analysis based on the limited quantity of such sales in the home market and the fact that no such sales were made to the United States during the POR. See, e.g., Final Determinations of Sales at Less Than Fair Value: Certain Hot-Rolled Carbon Steel Flat Products, Certain Cold-Rolled Carbon Steel Flat Products, Certain Corrosion-Resistant Carbon Steel Flat Products, and Certain Cut-to-Length Carbon Steel Plate from Korea, 58 FR 37176, 37180 (July 9, 1993); Certain Steel Concrete Reinforcing Bars From Turkey; Final Results, Rescission of Antidumping Duty Administrative Review in Part, and Determination To Revoke in Part, 70 FR 67665 (Nov. 8, 2005); Certain Steel Concrete Reinforcing Bars From Turkey; Preliminary Results and Partial Rescission of Antidumping Duty Administrative Review and Notice of Intent Not To Revoke in Part, 69 FR 25066, 25066 (May 5, 2004); Certain Steel Concrete Reinforcing Bars From Turkey; Preliminary Results of Antidumping Duty Administrative Review, 67 FR 21634, 21636 (May 1, 2002), unchanged by the final results; Certain Steel Concrete Reinforcing Bars From Turkey; Final Results of Antidumping Duty Administrative Review, 66 FR 56274 (Nov. 7, 2001) and accompanying Issues and Decision Memorandum at Comment 1.

B. Affiliated Party Transactions and Arm's-Length Test

Diler, Ekinciler, and Habas made sales of rebar to affiliated parties in the home market during the POR. Consequently, we tested these sales to ensure that they were made at arm's-length prices, in accordance with 19 CFR 351.403(c). To test whether the sales to affiliates were made at arm's-length prices, we compared the unit prices of sales to affiliated and unaffiliated customers net of all movement charges, direct selling expenses, and packing expenses. Where the price to that affiliated party was, on average, within a range of 98 to 102 percent of the price of the same or comparable merchandise sold to the unaffiliated parties at the same level of trade (LOT), we determined that the sales made to the affiliated party were at arm's length. See Antidumping Proceedings: Affiliated Party Sales in the Ordinary Course of Trade, 67 FR 69186 (Nov. 15, 2002).

C. Cost of Production Analysis

Pursuant to section 773(b)(2)(A)(ii) of the Act, for Diler, Ekinciler, and Habas, there were reasonable grounds to believe or suspect that these respondents had made home market sales at prices below their COPs in this review because the Department had disregarded sales that failed the cost test for these companies in the most recently completed segment of this proceeding in which these companies participated (i.e., the 2000-2001 administrative review for Ekinciler, the 2001-2002 administrative review for Habas, and the 2002-2003 administrative review for Diler). As a result, the Department initiated an investigation to determine whether these companies had made home market sales during the POR at prices below their COPs.

Pursuant to section 773(b)(2)(A)(i) of the Act, for Colakoglu, there were reasonable grounds to believe or suspect that this respondent had made home market sales at prices below its COP in this review because of information contained in the cost allegation properly filed in this review by the petitioners. As a result, the Department initiated an investigation to determine whether Colakoglu made home market sales during the POR at prices below its COP. See the Memorandum from The Team to Office Director, Office 2, AD/CVD Operations, entitled, “Petitioners' Allegation of Sales Below the Cost of Production for Colakoglu Metalurji A.S.,” dated September 22, 2005.

1. Calculation of COP

In accordance with section 773(b)(3) of the Act, we calculated COP based on the sum of the respondents' cost of materials and fabrication for the foreign like product, plus amounts for general and administrative (G&A) expenses and interest expenses. See the “Test of Comparison Market Sales Prices” section below for treatment of home market selling expenses.

We relied on the COP information provided by each respondent in its questionnaire responses, except for the following instances where the information was not appropriately quantified or valued:

A. Colakoglu

1. We adjusted Colakoglu's reported cost of manufacturing (COM) to appropriately value the claimed offset related to transactions with an affiliated party.

2. We included the depreciation expense related to buildings in the reported COM.

3. We based the interest expense ratio on the amounts reflected in Colakoglu's 2004 fiscal year statutory financial statements, which were prepared in accordance with Turkish generally accepted accounting principles. We note that in the previous administrative review, Colakoglu used its financial statements which were prepared in accordance with International Accounting Standards (IAS) to calculate its financial expenses. However, in this review, we find that the statutory financial statements are preferable to Colakoglu's 2004 IAS financial statements (also submitted by Colakoglu on the record of this segment) because the statutory financial statements most clearly reflect the data recorded in Colakoglu's normal books and records.

4. We revised the reported G&A expense ratio to be consistent with the revision of the indirect selling expense ratio, based on our findings at verification.

For further discussion of these adjustments, see the Memorandum from Sheikh Hannan to Neal Halper entitled, “Cost of Production and Constructed Value Adjustments for the Preliminary Results - Colakoglu Metalurji A.S. and Colakoglu Dis Ticaret A.S. (collectively “Colakoglu”),” dated May 1, 2006.

B. Diler

1. We adjusted Yazici Turizm's reported COM to increase the cost of certain billets purchased from its affiliate Korfez Steel Industry and Trade Inc. to market value, in accordance with section 773(f)(2) of the Act.

2. We recalculated Diler's G&A expense ratio calculation to: 1) reflect the treatment of parent company G&A expenses in its normal books and records; and 2) exclude an offset for certain non-operating income.

3. Because the financial expense ratio for Diler is negative, we set it to zero. This is in accordance with the Department's practice of determining that, when a company earns enough financial income that it recovers all of its financial expense, that company did not have a resulting cost for financing during that period. See Notice of Final Results of Antidumping Duty Administrative Review: Certain Softwood Lumber Products From Canada, 70 FR 73437 (Dec. 12, 2005) (Lumber from Canada), and accompanying Issues and Decision Memorandum at Comments 9 and 25.

For further discussion of these adjustments, see the Memorandum from Margaret Pusey to Neal Halper entitled, “Cost of Production and Constructed Value Adjustments for the Preliminary Results - Diler Demir Celik Endustrisi ve Ticaret A.S., Yazici Demir Celik Sanayi ve Ticaret A.S., and Diler Dis Ticaret A.S. (collectively “Diler”),” dated May 1, 2006.

C. Ekinciler

1. We revised the reported G&A expenses to include a proportionate share of Ekinciler's parent company's company-wide G&A expenses. In addition, we included in total G&A expenses certain items which had been excluded.

2. We revised Ekinciler's reported financial expenses to exclude certain offsets to the financial expenses related to investment income.

For further discussion of these adjustments, see the Memorandum from Mark Todd to Neal Halper entitled, “Cost of Production and Constructed Value Calculation Adjustments for the Preliminary Results - Ekinciler Demir ve Celik Sanayi A.S. (Ekinciler),” dated May 1, 2006.

D. Habas

1. Because the financial expense ratio for Habas is negative, we set it to zero in accordance with the Department's practice. See Lumber from Canada at Comments 9 and 25.

2. We adjusted Habas's reported COM by disallowing a claimed offset for double-counted billet costs because Habas failed to demonstrate that these costs were double-counted.

For further discussion of these adjustments, see the Memorandum from James Balog to Neal Halper entitled, “Cost of Production and Constructed Value Calculation Adjustments for the Preliminary Results - Habas Sinai ve Tibbi Gazlar Istihsal Endustrisi A.S.,” dated May 1, 2006.

2. Test of Home Market Sales Prices

We compared the weighted-average COP figures to home market prices of the foreign like product, as required under section 773(b) of the Act, in order to determine whether these sales had been made at prices below the COP. On a product-specific basis, we compared the COP to home market prices, less any applicable movement charges, selling expenses, and packing expenses.

In determining whether to disregard home market sales made at prices below the COP, we examined whether such sales were made: 1) in substantial quantities within an extended period of time; and 2) at prices which permitted the recovery of all costs within a reasonable period of time. See sections 773(b)(1)(A) and (B) of the Act.

3. Results of the COP Test

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we found that sales of that model were made in “substantial quantities” within an extended period of time (as defined in section 773(b)(2)(B) of the Act), in accordance with section 773(b)(2)(C)(i) of the Act. In such cases, we also determined that such sales were not made at prices which would permit recovery of all costs within a reasonable period of time, in accordance with section 773(b)(2)(D) of the Act. Therefore, for purposes of this administrative review, we disregarded these below-cost sales for Colakoglu, Diler, Ekinciler, and Habas and used the remaining sales as the basis for determining NV, in accordance with section 773(a)(1) of the Act.

D. Level of Trade

In accordance with section 773(a)(1)(B) of the Act, to the extent practicable, we determine NV based on sales in the comparison market at the same LOT as EP. The NV LOT is that of the starting-price sales in the comparison market or, when NV is based on CV, that of the sales from which we derive selling, G&A expenses, and profit. For EP, the U.S. LOT is also the level of the starting-price sale, which is usually from the exporter to the unaffiliated U.S. customer.

To determine whether NV sales are at a different LOT than EP sales, we examine stages in the marketing process and selling functions along the chain of distribution between the producer and the unaffiliated customer. If the comparison-market sales are at a different LOT and the difference affects price comparability, as manifested in a pattern of consistent price differences between the sales on which NV is based and comparison-market sales at the LOT of the export transaction, we make an LOT adjustment under section 773(a)(7)(A) of the Act.

All the respondents in this review claimed that they sold rebar at a single LOT in their home and U.S. markets. However, three of these respondents (Diler, Ekinciler, and Habas) reported that they sold rebar directly to various categories of customers in the home market, while the remaining company (Colakoglu) reported that it made both direct sales and sales through affiliated resellers to various categories of customers in the home market. Regarding U.S. sales, all respondents reported only EP sales to the United States to a single customer category (i.e., unaffiliated traders). However, three of these companies reported direct sales to U.S. customers, while one respondent (Colakoglu) reported sales through an affiliated party in the United States. Regarding these latter sales, we have classified them as EP transactions because we confirmed at verification that: (1) all significant selling activities related to these sales (e.g., price negotiations, invoicing) were conducted by Colakoglu personnel in Turkey; (2) the only selling functions provided by Colakoglu employees on behalf of the affiliated party include certain import-related expenses; and (3) this affiliated party has no physical location or employees in the United States.

To determine whether sales to any of these customer categories were made at different LOTs, we examined the stages in the marketing process and selling functions along the chain of distribution for each of these respondents. Regarding U.S. sales, each of the respondents reported that it performed identical selling functions across customer categories and channels of distribution in the U.S. market, except in the case of Colakoglu which also provided certain import-related services with respect to its sales through an affiliated party. After analyzing the data on the record with respect to these functions, we find that the respondents made all sales at the same marketing stage (i.e., the same LOT) in the U.S. market, and any additional import-related services provided by Colakoglu with respect to its affiliated party sales do not rise to the level of a separate LOT.

Regarding home market sales, each of the respondents reported that it performed identical selling functions across customer categories in the home market. After analyzing the data on the record with respect to these functions, we find that the respondents performed the same selling functions for their home market customers, regardless of customer category or channel of distribution. Specifically, regarding Colakoglu, although it made direct sales and sales through its affiliated resellers in the home market, we find that there is one home market LOT because: (1) the resellers do not have separate locations apart from Colakoglu's offices; and (2) all selling activities related to home market sales made by the affiliated resellers are performed by Colakoglu personnel. Therefore, we find that Colakoglu does not perform an additional layer of selling functions for the home market sales through its affiliated resellers. Accordingly, we find that Colakoglu, Diler, Ekinciler, and Habas made all sales at the same marketing stage (i.e., at the same LOT) in the home market.

For sales to the United States, Colakoglu performed the same selling functions/services as it did for its home market sales, and it also provided certain import-related services for U.S. sales. Diler, Ekinciler, and Habas performed the same selling functions/services for their U.S. sales as they did for their home market sales. After analyzing the reported information, we find that the U.S. LOT for each respondent is the same as its home market LOT. As a consequence, we find that no LOT adjustment is warranted in this case.

E. Calculation of Normal Value

1. Colakoglu

We based NV on the starting prices to home market customers. For those home market sales negotiated in U.S. dollars, we used the U.S.-dollar price, rather than the Turkish lira (TL) price adjusted for kur farki (i.e., an adjustment to the TL invoice price to account for the difference between the estimated and actual TL value on the date of payment), because the only price agreed upon was a U.S.-dollar price, which remained unchanged. The buyer merely paid the TL-equivalent amount at the time of payment. This treatment is consistent with our treatment of these transactions in the most recently completed segment of this proceeding. See Certain Steel Concrete Reinforcing Bars From Turkey; Preliminary Results and Partial Rescission of Antidumping Duty Administrative Review and Notice of Intent To Revoke in Part, 70 FR 23990, 23995 (May 6, 2005), unchanged in the final results. Where appropriate, we made deductions from the starting price for foreign inland freight expenses, in accordance with section 773(a)(6)(B) of the Act.

Pursuant to section 773(a)(6)(C)(iii) of the Act and 19 CFR 351.410(b), we made circumstance-of-sale adjustments for credit expenses (offset by interest revenue), bank charges, exporter association fees, and commissions. Regarding commissions, Colakoglu incurred commissions only in relation to U.S. sales. Therefore, pursuant to 19 CFR 351.410(e), we offset U.S. commissions by the lesser of the commission amount or home market indirect selling expenses. We deducted home market packing costs and added U.S. packing costs, in accordance with section 773(a)(6) of the Act.

Where appropriate, we made adjustments to NV to account for differences in physical characteristics of the merchandise, in accordance with section 773(a)(6)(C)(ii) of the Act and 19 CFR 351.411(a). We based this adjustment on the difference in the variable costs of manufacturing for the foreign like product and subject merchandise. See 19 CFR 351.411(b).

2. Diler

We based NV on the starting prices to home market customers. For those home market sales negotiated in U.S. dollars, we used the U.S.-dollar price, rather than the TL price adjusted for kur farki, because the only price agreed upon was a U.S.-dollar price, which remained unchanged. For further discussion, see the “Colakoglu” section above. Where appropriate, we made deductions from the starting price for foreign inland freight expenses, in accordance with section 773(a)(6)(B) of the Act.

Pursuant to section 773(a)(6)(C)(iii) of the Act and 19 CFR 351.410(b), we made circumstance-of-sale adjustments for credit expenses (offset by interest revenue), bank fees, and exporter association fees. We deducted home market packing costs and added U.S. packing costs, in accordance with section 773(a)(6)(B)(i) of the Act.

Where appropriate, we made adjustments to NV to account for differences in physical characteristics of the merchandise, in accordance with section 773(a)(6)(C)(ii) of the Act and 19 CFR 351.411(a). We based this adjustment on the difference in the variable costs of manufacturing for the foreign like product and subject merchandise. See 19 CFR 351.411(b).

3. Ekinciler

We based NV on the starting prices to home market customers. For those home market sales negotiated in U.S. dollars, we used the U.S.-dollar price, rather than the TL price adjusted for kur farki, because the only price agreed upon was a U.S.-dollar price, which remained unchanged. For further discussion, see the “Colakoglu” section above. Where appropriate, we made deductions from the starting price for billing adjustments. In addition, we made deductions for foreign inland freight expenses, in accordance with section 773(a)(6)(B) of the Act.

Pursuant to section 773(a)(6)(C)(iii) of the Act and 19 CFR 351.410(b), we made circumstance-of-sale adjustments for credit expenses, bank charges, exporter association fees, and commissions. Regarding commissions, Ekinciler incurred commissions only in relation to U.S. sales. Therefore, pursuant to 19 CFR 351.410(e), we offset U.S. commissions by the lesser of the commission amount or home market indirect selling expenses. We deducted home market packing costs and added U.S. packing costs, in accordance with section 773(a)(6) of the Act. Because Ekinciler reported that certain of its packing expenses were invoiced by an affiliated party, we tested the prices charged by the affiliate to determine whether they were at arm's length. Where we found that the prices were not at arm's length, we adjusted the price charged by the affiliate to include the selling, general, and administrative expenses incurred related to the provision of these services. For further discussion, see the Memorandum to the File from Irina Itkin entitled, “Calculations Performed for Ekinciler Demir ve Celik Sanayi A.S. and Ekinciler Dis Ticaret A.S. (collectively “Ekinciler”) for the Preliminary Results in the 2004-2005 Antidumping Duty Administrative Review on Steel Concrete Reinforcing Bars from Turkey,” dated May 1, 2006.

Where appropriate, we made adjustments to NV to account for differences in physical characteristics of the merchandise, in accordance with section 773(a)(6)(C)(ii) of the Act and 19 CFR 351.411(a). We based this adjustment on the difference in the variable costs of manufacturing for the foreign like product and subject merchandise. See 19 CFR 351.411(b).

4. Habas

We based NV on the starting prices to home market customers. For those home market sales negotiated in U.S. dollars, we used the U.S.-dollar price, rather than the TL price adjusted for kur farki, because the only price agreed upon was a U.S.-dollar price, which remained unchanged. For further discussion, see the “Colakoglu” section above.

Pursuant to section 773(a)(6)(C)(iii) of the Act and 19 CFR 351.410(b), we made circumstance-of-sale adjustments for credit expenses, bank charges, exporter association fees, and commissions. Regarding commissions, Habas incurred commissions only in relation to U.S. sales. Therefore, pursuant to 19 CFR 351.410(e), we offset U.S. commissions by the lesser of the commission amount or home market indirect selling expenses. We deducted home market packing costs and added U.S. packing costs, in accordance with section 773(a)(6) of the Act.

Where appropriate, we made adjustments to NV to account for differences in physical characteristics of the merchandise, in accordance with section 773(a)(6)(C)(ii) of the Act and 19 CFR 351.411(a). We based this adjustment on the difference in the variable costs of manufacturing for the foreign like product and subject merchandise. See 19 CFR 351.411(b).

Currency Conversion

We made currency conversions into U.S. dollars pursuant to section 773A(a) of the Act and 19 CFR 351.415. Although the Department's preferred source for daily exchange rates is the Federal Reserve Bank, the Federal Reserve Bank does not track or publish exchange rates for Turkish Lira. Therefore, we made currency conversions based on exchange rates from the Dow Jones Reuters Business Interactive LLC (trading as Factiva).

Preliminary Results of the Review

We preliminarily determine that the following margins exist for the respondents during the period April 1, 2004, through March 31, 2005:

Manufacturer/Producer/Exporter | Margin Percentage
Colakoglu Metalurji A.S. and Colakoglu Dis Ticaret A.S. | 0.26 (de minimis)
Diler Demir Celik Endustrisi ve Ticaret A.S./
Yazici Demir Celik Sanayi ve Turizm Ticaret A.S./
Diler Dis Ticaret A.S. | 0.02 (de minimis)
Ege Metal Demir Celik Sanayi ve Ticaret A.S. | 41.80
Ekinciler Demir ve Celik Sanayi A.S. and Ekinciler Dis Ticaret A.S. | 0.00
Habas Sinai ve Tibbi Gazlar Istithsal Endustrisi A.S. | 0.00
Ilhanlar Rolling and Textile Industries, Ltd., Sti. and Ilhanlar Group | 41.80
Intermet A.S. | 41.80
Iskenderun Iron & Steel Works Co. | 41.80
Koc Dis Ticaret A.S. | 41.80
Kroman Celik Sanayi A.S. | 41.80
Nurmet Celik Sanayi ve Ticaret A.S. | 41.80
Nursan Celik Sanayi ve Haddecilik A.S. | 41.80
Sozer Steel Works | 41.80
Ucel Haddecilik Sanayi ve Ticaret A.S. | 41.80
Yolbulanlar Nak. ve Ticaret A.S./
Yolbulan Metal Sanayi ve Ticaret A.S./
Yolbulan Dis Ticaret Ltd., Sti. | 41.80

Public Comment

The Department will disclose to parties the calculations performed in connection with these preliminary results within five days of the date of publication of this notice. Interested parties may request a hearing within 30 days of publication of this notice. Any hearing, if requested, will be held two days after the date rebuttal briefs are filed. Pursuant to 19 CFR 351.309, interested parties may submit cases briefs not later than 30 days after the date of publication of this notice. Rebuttal briefs, limited to issues raised in the case briefs, may be filed not later than 37 days after the date of publication of this notice. The Department will issue the final results of the administrative review, including the results of its analysis of issues raised in any such written comments, within 120 days of publication of these preliminary results.

Assessment

Upon completion of the administrative review, the Department shall determine, and CBP shall assess, antidumping duties on all appropriate entries.

On March 9, 2006, Mitsui, an interested party to this proceeding, submitted evidence demonstrating that it was the importer of record for certain of Diler's POR sales. We examined the information submitted by Mitsui and tied it to the U.S. sales listing, as well as to documentation obtained at the sales verification of Diler. We noted that Mitsui was indeed the importer of record for the sales in question. Therefore, for purposes of calculating the importer-specific assessment rates, we have treated Mitsui as the importer of record for Diler's relevant POR shipments.

Pursuant to 19 CFR 351.212(b)(1), for all sales made by Habas and Colakoglu, as well as for certain sales made by Diler, because we have the reported entered value of the U.S. sales, we have calculated importer-specific assessment rates based on the ratio of the total amount of antidumping duties calculated for the examined sales to the total entered value of those sales.

Regarding certain of Diler's and all of Ekinciler's sales, we note that these companies did not report the entered value for the U.S. sales in question. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the estimated entered value.

Pursuant to 19 CFR 351.106(c)(2), we will instruct CBP to liquidate without regard to antidumping duties any entries for which the assessment rate is de minimis (i.e., less than 0.50 percent). The Department will issue appraisement instructions directly to CBP.

The Department clarified its “automatic assessment” regulation on May 6, 2003 (68 FR 23954). This clarification will apply to entries of subject merchandise during the POR produced by companies included in these preliminary results of review for which the reviewed companies did not know their merchandise was destined for the United States, as well as any companies for which we are rescinding the review based on certifications of no shipments. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

Further, the following deposit requirements will be effective for all shipments of rebar from Turkey entered, or withdrawn from warehouse, for consumption on or after the publication date of the final results of this administrative review, as provided for by section 751(a)(2)(C) of the Act: (1) the cash deposit rates for the reviewed companies will be the rates established in the final results of this review, except if the rate is less than 0.50 percent, de minimis within the meaning of 19 CFR 351.106(c)(1), the cash deposit will be zero; (2) for previously investigated companies not listed above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 16.06 percent, the all-others rate established in the LTFV investigation. These deposit requirements, when imposed, shall remain in effect until publication of the final results of the next administrative review.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: May 1, 2006.
David M. Spooner,
Assistant Secretary for Import Administration.

[FR Doc. E6-6881 Filed 5-4-06; 8:45 am]

BILLING CODE 3510-DS-S